DEPARTMENT OF LABOR

Bureau of Labor Statistics

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c) (2)(A). This program helps to ensure that requested data can be provided in the desired format, reporting burden (time and financial resources) is minimized, collection instruments are clearly understood, and the impact of collection requirements on respondents can be properly assessed. The Bureau of Labor Statistics (BLS) is soliciting comments concerning the proposed reinstatement of the Work Schedules Supplement to the Current Population Survey (CPS), to be conducted in May 2001. A copy of the proposed information collection request (ICR) can be obtained by contacting the individual listed below in the Addresses section of this notice.

DATES: Written comments must be submitted to the office listed in the Addresses section of this notice on or before January 8, 2001.

ADDRESSES: Send comments to Ausie B. Grigg, Jr., BLS Clearance Officer, Division of Management Systems, Bureau of Labor Statistics, Room 3255, 2 Massachusetts Avenue, NE, Washington, DC 20212, telephone number 202-691-7628 (this is not a toll free number).

FOR FURTHER INFORMATION CONTACT: Ausie B. Grigg, Jr., BLS Clearance Officer, telephone number 202-691-7628. (See Addresses section.)

SUPPLEMENTARY INFORMATION:

I. Background

The CPS has been the principal source of the official Government statistics on employment and unemployment for over 50 years. Collection of labor force data through the CPS is necessary to meet the requirements in Title 29, United States Code, Sections 1 and 2. Over the past several decades, the economy of the United States has been undergoing a fundamental restructuring. Advances in computer and communications technology have increasingly enabled some workers to perform part or all of their work at home. The growth of this phenomenon represents an important development in this country's labor markets. This supplement will provide a substantial and objective set of data about work at home and work in home-based businesses. It will provide valuable information on the work schedules of employed persons, that is, the beginning and ending times of work, type of shift worked, and calendar days worked. It also will provide information about employed persons who do work at home. Work schedule supplements have been conducted since the 1970s. Questions on home-based work were included in May 1985, May 1991, and May 1997. A key purpose of the May 2001 collection is to gather updated information on these topics. In particular, it is widely believed that the number of persons who work at home is growing rapidly, and the May 2001 supplement will provide information that will help researchers gauge the extent to which this group is expanding and provide additional detail on the nature of this work activity. More generally, the May 2001 Work Schedule Supplement will be used by BLS researchers and others to examine the changes in work schedules and work at home that are taking place over time.

II. Desired Focus of Comments

The Bureau of Labor Statistics is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

OMB clearance is being sought for the Work Schedules Supplement to the CPS.

Type of Review: Reinstatement, with change, of a previously approved collection for which approval has expired.

Agency: Bureau of Labor Statistics.

Title: Work Schedules Supplement to the CPS.

OMB Number: 1220-0119.

Affected Public: Households.

Total Respondents: 58,000.

Frequency: Monthly.

Total Responses: 58,000.

Average Time Per Response: 4.5 Minutes.

Estimated Total Burden Hours: 4,350 Hours.

Total Burden Cost (capital/startup): $0

Total Burden Cost (operating/maintenance): $0

Comments submitted in response to this notice will be summarized and/or included in the request for Office of Management and Budget approval of the information collection request; they also will become a matter of public record.

Signed at Washington, D.C., this 31st day of October, 2000.
W. Stuart Rust, Jr.,
Chief, Division of Management Systems, Bureau of Labor Statistics.

[FR Doc. 00-28511 Filed 11-6-00; 8:45 am]

BILLING CODE 4510-24-P